Title 3—

The President

Proclamation 7734 of November 14, 2003

America Recycles Day, 2003

By the President of the United States of America

A Proclamation

To preserve America's majestic beauty, we must conserve our natural resources and practice responsible stewardship. On America Recycles Day, we reaffirm our commitment to conservation and recognize the increase in recycling in the last two decades.

Twenty-five years ago, only one community in the United States had a curbside recycling program. Today, more than 9,000 communities have curbside collection, and many others provide drop-off centers or cooperative collection facilities. Businesses and communities are boosting recycling collection efforts, and companies are using new technologies and methods to manufacture products more efficiently. Manufacturers, retailers, and governmental and non-governmental organizations are engaging in voluntary product stewardship partnerships to reduce waste. Industries are also discovering ways to reduce waste and cost, cut pollution and greenhouse gas emissions, and conserve energy and water.

Many of the products used every day, including aluminum cans, appliances, office paper, cardboard boxes, furniture, and clothing contain recycled materials. We also recycle motor oil, tires, plastic, glass, batteries, and building materials, and we are developing new ways to recycle electronic products—the fastest growing portion of America's municipal waste.

On America Recycles Day, I encourage individuals, businesses, communities, tribes, and government to continue to work together as good stewards of America's resources. By using our resources wisely, we help build a stronger economy and a healthier future.

NOW, THEREFORE, I, GEORGE W. BUSH, President of the United States of America, by virtue of the authority vested in me by the Constitution and laws of the United States, do hereby proclaim November 15, 2003, as America Recycles Day. I call upon the people of the United States to observe this day with appropriate programs and activities.

IN WITNESS WHEREOF, I have hereunto set my hand this fourteenth day of November, in the year of our Lord two thousand three, and of the Independence of the United States of America the two hundred and twenty-eighth.

B

[FR Doc. 03-28952

Filed 11-17-03; 8:45 am]

Billing code 3195-01-P